DEPARTMENT OF COMMERCE

National Oceanic and Atmospheric Administration

[RTID 0648-XA419]

Public Information Session Regarding Atlantic Bluefin Tuna Stock Assessment

AGENCY: National Marine Fisheries Service (NMFS), National Oceanic and Atmospheric Administration (NOAA), Commerce.

ACTION: Notice; notification of public information session.

SUMMARY: NMFS is holding a public conference call and webinar for the Advisory Committee to the U.S. Section to the International Commission for the Conservation of Atlantic Tunas (ICCAT) and other interested stakeholders to provide an update on the status of recent work by the Standing Committee on Research and Statistics (SCRS) Bluefin Tuna Species Group to assess the western Atlantic and eastern Atlantic/Mediterranean bluefin tuna stocks.

DATES: An operator-assisted conference call and webinar information session that is open to the public will be held on September 3, 2020, from 1 p.m. to 3 p.m. EDT. (Phone number 888-935-0267; verbal password: “ICCAT”; WebEx link: t.ly/iJxD; WebEx password: ICCAT). Participants must dial in by phone to receive audio and log on to the WebEx to view the presentation. Participants are strongly encouraged to dial in and log on 15 minutes prior to the meeting.

FOR FURTHER INFORMATION CONTACT: Terra Lederhouse at 301-427-8360 or Terra.Lederhouse@noaa.gov.

SUPPLEMENTARY INFORMATION: ICCAT's SCRS recently held the scheduled virtual meeting of its Bluefin Tuna Species Group to conduct stock assessments for the western Atlantic and eastern Atlantic/Mediterranean stocks of bluefin tuna. The work undertaken by the Bluefin Tuna Species Group, of which some analytical work is still ongoing, is considered preliminary until adopted by the SCRS by correspondence in late September 2020. At that time, the SCRS will also develop and adopt management advice for the Commission for both stocks of bluefin tuna. While it would be premature to speculate on the conclusions of the assessment or its implications, including with respect to management advice, NMFS scientists will provide the Advisory Committee to the U.S. Section to ICCAT and other interested stakeholders with an update on the preliminary results of the stock assessments at the September 3, 2020 webinar. NMFS will provide an opportunity for participants to ask questions regarding the presentation on the assessment work and will announce the timing and format for the question and answer period at the beginning of the conference call.

The webinar is specifically an update on the stock assessment progress and not on development of U.S. positions.

A Fall meeting of the Advisory Committee to the U.S. Section to ICCAT will be held after the final stock assessment results and SCRS management advice have been published to discuss additional topics related to the assessment results.

Dated: August 24, 2020.
Alexa Cole,
Director, Office of International Affairs and Seafood Inspection, National Marine Fisheries Service.

[FR Doc. 2020-18874 Filed 8-26-20; 8:45 am]

BILLING CODE 3510-22-P